DEPARTMENT OF DEFENSE

Department of the Army

Army Science Board; Notice of Open Meeting

In accordance with section 10(a)(2) of the Federal Advisory Committee Act (P.L. 92-463), announcement is made of the following Committee Meeting:

Name of Committee: Army Science Board (ASB).

Date of Meeting: 2-3 April 2001.

Time of Meeting: 0830-1500.

Place of Meeting: Fort Belvoir, Virginia.

Agenda: The Army Science Board's (ASB) Special Summer Study on “Manpower and Personnel for the Soldier Systems in the Objective Force” will have their 2nd meeting at Fort Belvoir. Will have backbriefs concerning the March 13 Plenary Meeting, Manpower Requirements, and Joint Warfighter, to name a few: These meetings will be open to the public. Any interested person may attend, appear before, or file statements with the committee at the time and in the manner permitted by the committee. For further information, please contact, MAJ Joseph Jones on (703) 614-6020.

Wayne Joyner,
Program Support Specialist, Army Science Board.

[FR Doc. 01-7765 Filed 3-28-01; 8:45 am]

BILLING CODE 3710-08-M